FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR Part 67.

FEMA has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Acting Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
ARIZONA
La Paz County (Unincorporated Areas), (FEMA Docket No. B-7417)
Bouse Wash:
Approximately 5,700 feet downstream of Yellow Bird Drive | *875
Approximately 3,200 feet downstream of Plomosa Road | *925
Approximately 3,500 feet upstream of Joshua Street | *979
Tributary Along East Side Railroad:
Approximately 3,700 feet downstream of Willamette Drive | *876
Approximately 3,000 feet upstream of Main Street | *963
Tributary B:
At confluence with Bouse Wash | *889
Approximately 800 feet upstream of the unnamed road stretching between Winema Drive and Cholla Drive | *946
Tributary C:
At confluence with Bouse Wash | *898
Approximately 800 feet upstream of Cholla Drive | *925
Tributary D:
At confluence with Bouse Wash | *923
Approximately 2,800 feet upstream of Black Mountain Drive | *985
Tributary D 1:
At confluence with Tributary D | *932
Approximately 800 feet upstream of Rayder Avenue | *947
Tributary E 1:
At confluence with Bouse Wash | *948
Approximately 700 feet upstream of Rayder Avenue | *982
Tributary F:
At confluence of Bouse Wash | *876
Approximately 3,550 feet upstream of La Posa Road | *941
Tributary H:
At confluence with Bouse Wash | *940
Approximately 1,600 feet upstream of Plomosa Road | *985
Tributary I:
At confluence with Bouse Wash | *944
Just downstream of Plomosa | *1,005
Maps are available for inspection at the La Paz County Development, 1112 Joshua Avenue, Suite 202, Parker, Arizona.
———
Santa Cruz County (Unincorporated Areas), (FEMA Docket No. B-7310)
Tubac Creek:
At confluence with Santa Cruz River | *3,192
Approximately 0.35 miles (1,850 feet) upstream of Interstate 19 | *3,263
Tubac Creek: North Channel:
At confluence with Santa Cruz River | *3,189
At divergence from Tubac Creek approximately 680 feet upstream of Calle De Olivas | *3,251
Tributary 1 of Tubac Creek:
At confluence with Tubac Creek | *3,213
At approximately 0.229 mile (1,210 feet) upstream of Interstate 19 | *3,250
Tributary 2 of Tubac Creek:
At confluence with Tubac Creek | *3,195
Immediately downstream of East Frontage Road | *3,222
Maps are available for inspection at the Floodplain Administrators Office, Room 11, 2150 North Congress Drive, Nogales, Arizona.
———
Mohave County (Unincorporated Areas), (FEMA Docket No. B-7266)
Cerbat Wash Tributary 1:
Approximately 140 feet downstream of Route 68 | *2,797
Cerbat Wash Tributary 2:
At confluence of Cerbat Wash | *2,848
Approximately 300 feet downstream of Agua Fria Drive | *2,900
Sacramento Wash:
Approximately 2,600 feet downstream of Shipp Drive | *2,723
Approximately 160 feet downstream of Auga Fira Drive | *2,852
Sacramento Wash Tributary 3:
At confluence with Sacramento Wash | *2,833
Approximately 2,700 feet downstream of Agua Fria Drive | *2,861
Sacramento Wash Tributary 4:
At confluence with Sacramento Wash | *2,768
Approximately 2,000 feet above confluence with Sacramento Wash-Tributary 4A | *2,827
Sacramento Wash Tributary 4 A:
At confluence with Sacramento Wash—Tributary 4 | *2,804
Approximately 1,940 feet upstream of confluence with Sacramento Wash Tributary 4 | *2,827
Sacramento Wash Tributary 5:
At confluence with Sacramento Wash | *2,748
Approximately 6,250 feet upstream of Chino Drive | *2,868
Sacramento Wash Tributary 5 A:
At confluence with Sacramento Wash | *2,790
Approximately 2,700 feet upstream of Chino Drive | *2,823
Sacramento Wash Tributary 6:
Approximately 250 feet upstream of Shipp Drive | *2,760
Approximately 5,350 feet upstream of Chino Drive | *2,886
Sacramento Wash Tributary 6 A:
At confluence with Sacramento Wash—Tributary 6 | *2,788
Approximately 2,900 feet upstream of confluence with Sacramento Wash Tributary 6B | *2,880
Sacramento Wash Tributary 6 B:
At confluence with Sacramento Wash—Tributary 6 A | *2,860
Approximately 1,760 feet upstream of confluence with Sacramento Wash Tributary 6A | *2,880
Thirteen Mile Wash:
Approximately 500 feet upstream of Shipp Drive | *2,800
Approximately 3,050 feet upstream of Agua Drive | *3,117
Thirteen Mile Wash Tributary 1:
At confluence of Thirteen Mile Wash | *3,030
At Agua Fria Drive | *3,062
Thirteen Mile Wash Tributary 2:
At confluence of Thirteen Mile Wash | *3,013
100 feet upstream of Agua Fria Drive | *3,121
Maps are available for inspection at Mohave County, Flood Control District, P.O. Box 7000, Kingman, Arizona.
CALIFORNIA
Placer County (Unincorporated Areas), (FEMA Docket No. B-7413)
Miners Ravine:
Just upstream of Sierra College Blvd | *251
Just upstream of Miners Ravine Road | *358
Approximately 650 feet upstream of New Castle Road | *784
Maps are available for inspection at the Placer County Public Works Department, 11444 B Avenue, Auburn, California.
———
Plumas County (Unincorporated Areas), (FEMA Docket No. B-7413)
Middle Fork Feather River:
Just upstream of Western Pacific Railroad crossing | *4,819
Approximately 4,500 feet upstream of confluence of Portola Tributary | *4,849
Approximately 500 feet upstream of Ellen Avenue | *4,918
Approximately 2,600 feet upstream of confluence of West Branch Portola Tributary | *5,076
At confluence with Portola Tributary | *4,951
Approximately 100 feet upstream of Deerweed Street | *5,036
Maps are available for inspection at the Plummas County Courthouse, 520 Main Street, Room 120, Quincy, California.
COLORADO
Florence (City), Freemont County, (FEMA Docket No. B-7416)
Oak Creek:
Approximately 1,500 feet downstream of West Third Street | *5,166
Just upstream of Denver and Rio Grande Western Railroad | *5,195
Oak Creek Right Overbank:
Approximately 170 feet upstream of West Seventh Street | *5,156
Just upstream of Denver and Rio Grande Western Railroad | *5,192
Maps are available for inspection at 300 West Main Street, Florence, Colorado.
———
Freemont County (Unincorporated Areas), (FEMA Docket No. B-7417)
Oak Creek Right Overbank:
500 feet downstream of West Seventh Street | *5,151
Approximately 150 feet upstream of West Seventh Street | *5,156
Oak Creek:
Approximately 1,200 feet upstream of confluence with Arkansas River | *5,158
Just downstream at Atchison, Topeka and Santa Fe Railroad | *5,246
Maps are available for inspection at the County Courthouse, 615 Macon Avenue, Room B5, Canon City, Colorado.
HAWAII
Honolulu (City and County), (FEMA Docket No. B-7314)
Moanalua Stream:
Approximately 250 feet downstream of Moanalua Road | *12
Approximately 180 feet upstream of Jarett White Road | *29
Manaika Stream:
At confluence with Moanalua Stream | *12
Approximately 260 feet upstream of Mahole Street | *35
Waiawa Stream:
At Middle Loch | *3
Approximately 4,400 feet upstream of confluence with Panakauahi Gulch | *63
Overflow of Waiawa Stream:
At Middle Loch | *4
Approximately 2,600 feet upstream from Middle Loch | *16
Panakauahi Gulch:
At confluence with Waiawa Stream | *44
Approximately 800 feet upstream of Cane Haul Road | *97
Flow along Cane Haul Road:
At convergence point with Panakauahi Gulch | *52
At divergence point from Panakauahi Gulch | *93
Split flow Waiawa Stream:
At Middle Loch | *3
Approximately 870 feet upstream of Waipulani Avenue | *11
Maps are available for inspection at the Planning and Zoning Department, 650 S. King Street, Honolulu, Hawaii.
IDAHO
Ammon (City), Bonneville County (FEMA Docket No. B-7417)
Sand Creek Drainage:
Approximately 850 feet upstream of Sunnyside Road | *4,718
Approximately 85 feet upstream of Wanda Street | *4,724
Maps are available for inspection at the Ammon City Hall, c/o Ms. Aleen Jenson, 2135 South Ammon Road, Ammon, Idaho.
———
Bonneville County (Unincorporated Areas), (FEMA Docket No. B-7417)
Black Canyon Drainage:
At Nielson Road | *4,741
Approximately 4,900 feet upstream of Nielson Road | *4,775
Salt River:2,500 feet downstream of confluence of Miller Creek | *5,677
Sand Creek Drainage:
Just downstream of First Street | *4,744
Just upstream of Sunnyside Road | *4,716
Maps are available for inspection at the Bonneville County Courthouse, 605 North Capital Avenue, Idaho Falls, Idaho.
———
Bonner County (Unincorporated Areas), (FEMA Docket No. B-7417)
Pend Oreille River:
Approximately 4,000 feet downstream of U.S. Route 2 | *2,056
Approximately 800 feet downstream of Alderni Falls Dam | *2,057
Maps are available for inspection at the Bonner County Planning Department, 127 South First Avenue, Sandpoint, Idaho.
IOWA
Swisher (City), Johnson County (FEMA Docket No. B-7302)
Swisher Creek:
Approximately 16,000 feet above mouth | *747
Approximately 19,600 feet above mouth | *757
Maps are available for inspection at City Hall, 66 Second Street, Swisher, Iowa.
MISSOURI
Pulaski County (Unincorporated Areas) (FEMA Docket No. B-7417)
Roubidoux Creek:
Approximately 4,800 feet upstream from confluence with Gasconade River | *765
Approximately 2,700 feet downstream of Historic Route 66 | *777
Approximately 2,600 feet upstream of Historic Route 66 | *784
Approximately 11,000 feet upstream of Interstate 44 | *796
Mitchell Creek:
Just upstream of Interstate 44 | *856
Approximately 4,700 feet upstream of Highway H | *908
Pearson Hollow:
Approximately 300 feet upstream of Glenn Road | *892
Approximately 1,100 feet upstream of Glenn Road | *901
Maps are available for inspection at the Pulaski County Courthouse, 301 Historic Route 66 East, Waynesville, Missouri
MONTANA
Cascade County (Unincorporated Areas), (FEMA Docket No. B-7413)
Gibson Flats:
At confluence with Sand Coulee Creek (North side of Railroad) | *3,352
At divergence from Sand Coulee Creek | *3,361
Sand Coulee Creek:
Approximately 4,000 feet downstream of Goon Hill Road | *3,345
Just upstream of Gibson Flats Road | *3,357
Approximately 1,600 feet downstream of Blaine Street | *3,422
Approximately 2,000 feet upstream of Brown Road | *3,448
Sand Coulee Creek (Northside of Railroad):
At confluence with Sand Coulee Creek (downstream) | *3,354
At divergence from Sand Coulee Creek (upstream) | *3,354
Sun River:
At confluence with Missouri River | *3,319
Approximately 1.5 miles upstream of Central Avenue West | *3,332
Approximately 3,200 feet upstream of Manchester Bridge | *3,339
Maps are available for inspection at the Cascade County Planning Department, 415 Third Street, Northwest, Great Falls, Montana.
NEVADA
Washoe County (Unincorporated Areas), (FEMA Docket No. B-7310)
Golden Valley Wash:
Approximately 2,180 feet upstream of Tholl Drive | *4,981
Approximately 2,700 feet upstream of Spearhead Way | *5,176
Hidden Valley Wash:
Approximately 1,800 feet upstream of its confluence with Steamboat Creek | *4,442
Approximately 3,420 feet upstream of Parkway Drive | *4,647
Sun Valley Wash:
At the Sun Valley Flood Control Detention Dam | *4,548
At East 7th Avenue | *4,725
Sun Valley Wash Split Flow:
At convergence with Sun Valley Wash | *4,647
Maps are available for inspection at Washoe County Engineering Department, 1001 E. 9th Street, Reno, Nevada.
NEW MEXICO
Lovington (City), Lea County (FEMA Docket No. B-7401)
Main Street Ditch:
Just upstream of County Road | *3,890
Just downstream of Jefferson Avenue | *3,917
Railroad Ditch:
Approximately 5,450 feet downstream of confluence with Railroad Ditch Tributary | *3,800
Just downstream of Ninth Street | *3,911
Railroad Ditch Tributary:
Approximately 360 feet downstream of State Route 18 | *3,894
Just downstream of Avenue R | *3,899
Maps are available for inspection at City Hall, 214 South Love, Lovington, New Mexico.
NORTH DAKOTA
West Fargo (City) Cass County, (FEMA Docket No. B-7310)
Sheyenne River:
Approximately 8,700 feet downstream from 19th Avenue | *898
At confluence with County Drain 2 | *899
County Drain 21:
Approximately 1,400 feet downstream from Township Road | *898
At divergence of County Drain 21 outlet structure | *899
Maps are available for inspection at the City Hall, 800 4th Avenue East, West Fargo, North Dakota.
———
Reiles Acres (City) Cass County, (FEMA Docket No. B-7310)
County Drain 45:
Approximately 5,400 feet downstream from 32nd Avenue | *893
Approximately 3,000 feet upstream from 32nd Avenue | *893
Maps are available for inspection at 3348 45th Street, NW, Reiles Acres, North Dakota.
———
Township of Reed Cass County, (FEMA Docket No. B-7310)
Sheyenne River:
Approximately 7,400 feet downstream of County Road 17 | *894
At 52nd Avenue | *896
Approximately 1,600 feet upstream of its confluence with County Drain 21 | *898
County Drain 21:
At confluence with the Sheyenne River | *898
Approximately 900 feet upstream of its confluence with The Sheyenne River | *898
County Drain 45:
Approximately 5,800 feet downstream | *893
At County Road 20 | *893
Maple River:
At its confluence with the Sheyenne River | *897
Approximately 480 feet upstream of its confluence with the Sheyenne River | *897
Maps are available for inspection at City Hall, 7420 40th Avenue North, Fargo, North Dakota.
———
Harwood (City) Cass County, (FEMA Docket No. B-7310)
Sheyenne River:
At U.S. Highway 81 | *891
Approximately 7,600 feet upstream from County Highway 22 | *894
County Drain 40/45:
Approximately 3,600 feet downstream from County Highway 22 | *890
Approximately 1,200 feet upstream from County Drain 40/45 split | *897
Maps are available for inspection at City Hall, 202 Dakota Avenue, Harwood, North Dakota.
———
Fargo (City) Cass County, (FEMA Docket No. B-7310)
County Drain 45:
At County Road 14 (52nd Avenue) | *893
Approximately 2,800 feet upstream of 19th Avenue | *894
Maps are available for inspection at City Hall, 200 North 3rd Street, Fargo, North Dakota.
———
Mapleton (City) Cass County, (FEMA Docket No. B-7416)
Maple River:
Northeast corner of City of Mapleton Corporate Limits | *903
Along Interstate 94 within City of Mapleton Corporate Limits | *907
Maps are available for inspection at 1042 14th Avenue, Suite 101, West Fargo, North Dakota.
———
Durbin (Township) Cass County, (FEMA Docket No. B-7416)
Maple River:
Approximately 3,000 feet downstream of west bound Interstate 94 | *907
Approximately 2,400 feet upstream of east Interstate 94 | *908
Maps are available for inspection at the Office of the Township Chairman, 3768-157 R Avenue, Southeast, Casselton, North Dakota.
———
Raymond (Township) Cass County, (FEMA Docket No. B-7416)
Maple River:
At middle of eastern edge of section 30 in Township 140 North Range 50 West | *903
At southwestern corner of Section 30 in Township 140 North Range 50 West | *904
Maps are available for inspection at the Zoning Administration, 16365 33rd Street, Southeast, Mapleton, North Dakota.
OKLAHOMA
Logan County (Unincorporated Areas), (FEMA Docket No. B-7407)
Chisholm Creek:
Approximately 2,200 feet downstream of Waterloo Road | *1,014
Just downstream of Waterloo Road | *1,016
Coon Creek:
Just upstream of Waterloo Road | *969
Approximately 100 feet upstream of Waterloo Road | *970
Maps are available for inspection at the Logan County Courthouse, 301 East Harrison, Guthrie, Oklahoma.
OREGON
Warm Springs Indian Reservation (FEMA Docket No. B-7417)
Warm Springs River:
Approximately 500 feet downstream of Bia Route 13 | *1,408
Approximately 650 feet upstream of Bia Route 13 | *1,471
Shitike Creek:
Approximately 100 feet upstream of the confluence with Deschutes River | *1,372
Approximately 5,850 feet upstream of the confluence with Tenino Creek | *1,534
Tenino Creek:
At confluence with Shitike Creek | *1,471
Approximately 3,700 feet upstream of Bia Route 4 | *1,540
Maps are available for inspection at the Confederated Tribes of Warm Springs, 1233 Veterans Street, Warm Springs, Oregon.
SOUTH DAKOTA
Hot Springs, (City) Fall River County (FEMA Docket No. B-7417)
Cold Brook Creek:
At confluence with Hot Brook Creek and Fall River | *3,475
Approximately 300 feet upstream of Tillotson Street | *3,502
Fall River:
Approximately 1,250 feet downstream of Joplin Avenue | *3,375
At confluence with Hot Brook Creek and Cold Brook Creek | *3,475
Unnamed Tributary to Fall River:
At confluence with Fall River | *3,390
Approximately 700 feet upstream of River Street | *3,408
Maps are available for inspection at the City Hall, 303 North River Street, Hot Springs, South Dakota.
WYOMING
New Castle (City), Weston County (FEMA Docket No. B-7417)
Cambria Creek:
Approximately 1,930 feet downstream of Carter Avenue | +4,248
Approximately 2,100 feet upstream of North Summit Avenue | +4,350
Cambria Overflow:
At convergence with Little Oil Creek | +4,188
At divergence from Cambria Creek | +4,268
Cave Spring Canyon:
At confluence with Cambria Creek | +4,335
Approximately 1,950 feet upstream of confluence with Cambria Creek | +4,373
Little Oil Creek:
Approximately 1,900 feet downstream of Morrisey County Road | +4,134
At U.S. Highway 16 Bypass | +4,227
At Stampede Street | +4,270
Maps are available for inspection at the City Hall, 10 W. Warwick, Newcastle, Wyoming.

Source of flooding and location | #Depth in feet above ground. *Elevation in feet (NGVD). | Communities affected
CALIFORNIA
San Joaquin County and Incorporated Areas FEMA Docket No. (B-7157)
Bear Creek (Overflow north of Bear Creek:
West of Union Pacific Railroad and south of Pixley Slough | *19 | San Joaquin County (Uninc. Areas).
Just east of Southern Pacific Railroad | *36
Just east of State Highway 99 | *42
Just east of Alpine Road | *55
4,000 feet downstream from Jack Tone Road | *83
Bear Creek (Channel):
At Kettleman Lane | *77 | San Joaquin County (Uninc. Areas)
At Jack Tone Road | *88
Just downstream of Tully Road | *96
Bear Creek (Overflow south of Bear Creek):
Just east of Thornton Road | *12 | San Joaquin County (Uninc. Areas).
Just east of Union Pacific Railroad | *22
Just east of State Highway 99 and north of Eightmile Road | *39
Above confluence of Mosher Creek | *60
At Sargent Road Tributary | *85
Paddy Creek (Overflow from West Bank):
At confluence with Bear Creek | *73 | San Joaquin County (Uninc. Areas).
At confluence of Middle Paddy Creek | *76
Just downstream of Sargent Road | *89
Paddy Creek (Overflow from East Bank):
At confluence with Bear Creek | *67 | San Joaquin County (Uninc. Areas).
Above confluence of South Paddy Creek | *73
Above confluence of Middle Paddy Creek | *78
Just south of Sargent Road | *90
Middle Paddy Creek (Overflow from South Bank):
At confluence with Paddy Creek | #1 | San Joaquin County (Uninc. Areas).
South Paddy Creek (Overflow from South Bank):
At confluence with Paddy Creek | *69 | San Joaquin County (Uninc. Areas).
Stockton Diversion Canal (Overflow from North Bank):
At confluence with Calaveras River | *28 | San Joaquin County (Uninc. Areas).
Just east of State Highway 99 | *32
Just east of State Highway 88 | *33
At Copperopolis Road | *41
Mormon Slough (Overflow from North Bank):
At divergence of Stockton Diverting Canal | *41 | San Joaquin County (Uninc. Areas).
Approximately 6,000 feet upstream of Copperopolis Road Crossing of Diverting Canal | *45
1,000 feet south of Flood Road | *95
Mormon Slough (Overflow from South Bank):
At Southern Pacific Railroad | *83 | San Joaquin County (Uninc. Areas).
At Milton Road | *85
1,500 feet downstream of Flood Road | *97
Potter Creek A (Overflow from South Bank):
Upstream of Southern Pacific Railroad | *89 | San Joaquin County (Uninc. Areas).
Just downstream of Milton Road | *90
Potter Creek A (Channel and South Bank overflow):
Just north of Milton Road | *92 | San Joaquin County (Uninc. Areas).
Just upstream of Fine Avenue | *104
Potter Creek B (Overflow from North Bank):
Just north of Milton Road | *85 | San Joaquin County (Uninc. Areas).
Approximately 3,000 feet west of Fine Avenue | *99
Just west of Fine Avenue | *102
Potter Creek B (Overflow from South Bank):
At Milton Road | 87 | San Joaquin County (Uninc. Areas).
Just west of Fine Avenue | *102
Potter Creek B (Main Channel and both overbanks):
Approximately 1,500 feet east of Fine Avenue | *105 | San Joaquin County (Uninc. Areas).
Bear Creek (overflow between Bear Creek and Mosher Creek)
Just east of Interstate Highway 5 | *12 | City of Stockton.
Just east of Western Pacific Railroad | *22
Just east of West Lane | *23
East of Southern Pacific Railroad and north of Morada Lane | *30
Potter Creek B (Overflow from South Bank):
At Milton Road | *87 | San Joaquin County (Uninc. Areas).
Just west of Fine Avenue | *102
Potter Creek B (Main Channel and both overbanks):
Approximately 1,500 feet east of Fine Avenue | *105 | San Joaquin County (Uninc. Areas).
Bear Creek (Overflow between Bear Creek and Mosher Creek)
Just east of Interstate Highway 5 | *12 | City of Stockton.
Just east of Western Pacific Railroad | *22
Just east of West Lane
East of Southern Pacific Railroad and north of Morada Lane | *30
Just west of State Highway 99 | *35
Mosher Creek (Overflow from south bank):
East of Western Pacific Railroad and west of West Lane | *22 | City of Stockton.
ADDRESSES
San Joaquin County (Unincorporated Areas):
Maps are available for inspection at San Joaquin County Flood Control and Water Conservation District, 1810 East Hazelton Avenue, Stockton, California.
City of Stockton:
Maps are available for inspection at the Community Development Department/Building Department, City of Stockton, 345 North El Dorado Street, Stockton, California.
Yolo County and Incorporated Areas FEMA Docket No. (B-7274)
Cache Creek:
Just upstream of Stilling Basin, A approximately 4,900 feet North of River Road | *36 | Yolo County (Uninc. Areas).
Just downstream of County Road 94B | *95
Cache Creek Right Overbank Flow:
Near County Road 25 and Willow Slough | *33 | Yolo County (Uninc. Areas)
Near the intersection of County Road 19B and 96A | *89
Cache Creek Right Overbank Flow:
Approximately 1 mile east of the intersection of County Road 102 and Interstate 5 | *35 | City of Woodland.
At the intersection of State Route 16 and County Road 98 | *74
ADDRESSES
Yolo County (Unincorporated Areas):
Maps are available for inspection at the Department of Planning and Public Works, 292 West Beamer Street, Woodland, California.
City of Woodland:
Maps are available for inspection at the Community Development Department, City Hall, 300 First Street, Woodland, California.

Source of flooding and location | #Depth in feet above ground. *Elevation in feet (NGVD). | Communities affected
NEW MEXICO
Bernalillo County and Incorporated Areas FEMA Docket No. (B-7418)
Arroyo Del Pino:
Near Marigold Drive | #3 | Bernalillo County (Uninc. Areas), City of Albuquerque.
North Arroyo De Domingo Baca:
At intersection of Interstate 25 and Corona Avenue | #2 | City of Albuquerque.
At intersection of Anaheim Avenue and Louisiana Boulevard | None |
Approximately 200 feet north of intersection of Lowell Street and Corona Avenue | None |
South Arroyo De Domingo Baca:
At intersection of Pino Avenue and Holbrook Street | #3 | Bernalillo County (Uninc. Areas), City of Albuquerque.
Southwest of intersection of Palomas Avenue and Lowell Street | *5,913 |
Just downstream of Bobcat Boulevard | #2 |
South Arroyo De Domingo Baca Tributary:
Approximately 800 feet downstream of Paseo Del Norte | #2 | Bernalillo County (Uninc. Areas).
Approximately 200 feet upstream of Ridge Road | #2 |
Middle Branch South Arroyo De Domingo Baca:
Approximately 500 feet downstream of Ridge Road | #1 | Bernalillo County (Uninc. Areas).
Approximately 200 feet upstream of Ridge Road | #1 |
South Branch South Arroyo De Domingo Baca:
Approximately 600 feet downstream of Ridge Road | #1 | Bernalillo County (Uninc. Areas).
Approximately 200 feet upstream of Ridge Road | #1 |
Tiferas Arroyo:
Just upstream of Sandia Military Reservation | *5,386 | Bernalillo County (Uninc. Areas), City of Albuquerque.
Approximately 500 feet west of Intersection of I-40 and Old Route 66 | *5,988 |
Tiferas Arroyo Tributary A:
Approximately 1,200 feet west of and parallel to Caballo De Fuenza Road | #1 | Bernalillo County (Uninc. Areas).
Tiferas Arroyo Tributary B:
Approximately 1,200 feet east of and parallel to Caballo De Fuenza Road | #1 | Bernalillo County (Uninc. Areas).
Tiferas Arroyo Tributary C:
North of Old Route 66 in T10N R5E Sec. 30 | #2 | Bernalillo County (Uninc. Areas).
Tiferas Arroyo Tributary D:
North and south of Old Route 66 in T10N R5E Sec. 30 | #2 | Bernalillo County (Uninc. Areas).
Tiferas Arroyo Tributary E:
South of Coyote Springs Road in T10N R5E Sec. 30 | #2 | Bernalillo County (Uninc. Areas).
Tiferas Arroyo Tributary F:
North of Old Route 66 in T10N R5E Sec. 19 | #2 | Bernalillo County (Uninc. Areas).
ADDRESSES
City of Albuquerque:
Maps are available for inspection at the Public Works Department, Development and Building Services Division, 600 2nd Street, NW, Albuquerque, New Mexico.
Bernalillo County (Unincorporated Areas):
Maps are available for inspection at 2400 Broadway, SE, Albuquerque, New Mexico.

Source of flooding and location | #Depth in feet above ground. +Elevation in feet (NAVD) *Elevation in feet (NGVD). | Communities affected
OREGON
Tillamook County and Incorporated Areas FEMA Docket No. (B-7408)
Dougherty Slough:
At Main Avenue | *11 | City of Tillamook.
Approximately 775 feet upstream of Main Avenue | *12 |
Hoquarten Slough:
Approximately 1,450 feet downstream of U.S. Highway 101-Main Avenue | *11 | City of Tillamook.
Approximately 675 feet upstream of U.S. Highway 101-Main Avenue | *13 |
Wilson River:
Approximately 230 feet upstream of U.S. Highway 101 | *17 | City of Tillamook.
Approximately 975 feet upstream of U.S. Highway 101 | *18 |
Dougherty Slough (Wilson River):
At confluence with Hoquarten Sloug | *10 | Tillamook County (Uninc. Areas).
Approximately 2,800 feet upstream of Wilson River Loop Road | *27 |
Hoquarten Slough (Wilson River):
Approximately 3,250 feet upstream of confluence with Trask River | *10 | Tillamook County (Uninc. Areas).
Approximately 700 feet upstream of Southern Pacific Railroad | *15 |
Wilson River:
Approximately 150 feet upstream of confluence with Tillamook Bay | *10 | Tillamook County (Uninc. Areas).
Approximately 4,300 feet upstream of Wilson River Loop Road | *28
ADDRESSES
Tillamook County and Unincorporated Areas:
Maps are available for inspection at the County Courthouse, 201 Laurel Avenue, Tillamook, Oregon.
City of Tillamook:
Maps are available for inspection at City Hall, 210 Laurel Avenue, Tillamook, Oregon

Source of flooding and location | #Depth feet above ground. *Elevation in feet (NGVD). | Communities affected
TEXAS
Bexar County and Incorporated Areas FEMA Docket No. (B-7414)
Culebra Creek:
At confluence with Leon Creek | *773 | Bexar County (Uninc. Areas), City of San Antonio.
At Culebra Road | *849 |
Just downstream of Galm Road | *952 |
Culebra Creek Split No. 1:
At confluence with Culebra Creek | *796 | Bexar County (Uninc. Areas), City of San Antonio.
Approximately 830 feet upstream of Tezel Road | *808 |
Culebra Creek Split No. 2:
At confluence with Culebra Creek (Approximately 200 feet upstream Tezel Road) | *810 | Bexar County (Uninc. Areas), City of San Antonio.
Approximately 3,620 feet upstream of Timberwilde | *827 |
Culebra Creek Split No. 3:
At confluence with Culebra Creek (Approximately 1,530 feet downstream of Charles W. Anderson Loop) | *853 | Bexar County (Uninc. Areas), City of San Antonio.
At Charles W. Anderson Loop | *865 |
French Creek:
Approximately 1,500 feet upstream of Clyde Dent | *806 | Bexar County (Uninc. Areas), City of San Antonio.
Approximately 1,040 feet downstream of Mainline Drive | *832 |
At Charles W. Anderson Drive | *936 |
Approximately 800 feet upstream of Circle North Trail | *980 |
Helotes Creek (at San Antonio):
At confluence with Culebra Creek | *853 | Bexar County (Uninc. Areas), City of San Antonio.
At Leslie Road | *915 |
Approximately 320 feet upstream of Bandera Road | *997 |
Huebner Creek:
Approximately 220 feet upstream of Ingram Road | *765 | Bexar County (Uninc. Areas), City of San Antonio, City of Leon Valley.
At Huebner Road | *841 |
Approximately 320 feet upstream of De Zavala Road | *966 |
Huesta Creek:
At confluence with Leon Creek | *915 | Bexar County (Uninc. Areas), City of San Antonio.
Approximately 2,050 feet upstream of Charles W. Anderson Drive | *1,006 |
Leon Creek:
At U.S. Highway 90 | *693 | Bexar County (Uninc. Areas), City of San Antonio.
At U.S. Route 161 | *736 |
Approximately 2,450 feet downstream of Route 16 | *824 |
Approximately 1,100 feet upstream of Charles W. Anderson Drive | *993 |
Leon Creek Overflow:
Approximately 1,125 feet downstream of West Prue Road | *888 | Bexar County (Uninc. Areas), City of San Antonio.
At Babcock Road | *918 |
Approximately 60 feet downstream of West Hausman Road | *953 |
Maverick Creek (Babcock Tributary):
At confluence with Leon Creek | *916 | Bexar County (Uninc. Areas), City of San Antonio.
At Seco Creek Street | *1,014 |
Approximately 1,750 feet upstream of Babcock Road | *1,137 |
Tributary B to Culebra Creek:
At confluence with Culebra Creek | *920 | Bexar County (Uninc. Areas).
Approximately 50 feet downstream of Galm Road | *950 |
ADDRESSES
Bear County (Unincorporated Areas):
Maps are available for inspection at the Bexar County Public Works Department, 233 North Pecos, Suite 420, San Antonio, Texas.
City of Leon Valley:
Maps are available for inspection at the Leon Valley City Hall, 6400 El Verde Road, San Antonio, Texas.
City of San Antonio:
Maps are available for inspection at the Municipal Plaza, 114 W. Commerce, Seventh Floor, San Antonio, Texas.

Source of flooding and location | #Depth in feet above ground. +Elevation in feet (NGVD) *Elevation in feet (NAVD). | Communities affected
TEXAS
Jefferson County and Incorporated Areas FEMA Docket No. (B-7413)
Keith Ditch:
Approximately 450 feet downstream of Dowlen Road | *22 | City of Beaumont.
Approximately 1,400 feet upstream of Major Drive | *31
Walker Branch:
At dead-end of Debbie Drive | *22 | City of Beaumont.
Just downstream of Tram Road | *24
Walker Branch Tributary:
Approximately 100 feet upstream of Tram Road | *22 | City of Beaumont.
Approximately 1,000 feet upstream of Spurlock Road | *31
Willow Marsh Bayou:
Just upstream of Tyrell Park Road | *15 | City Of Beaumont.
Approximately 500 feet upstream of Interstate 10 | *17
Bayou Din:
Approximately 2,750 feet upstream of LaBelle Road | *9 | City of Beaumont.
Approximately 6,100 feet upstream of Lawhorn Road | *31
Bayou Din Tributary:
Approximately 950 feet upstream of confluence with Bayou Din. | *17 | Jefferson County (Uninc. Areas).
Approximately 1,900 feet downstream of Highway 124 | *22
Ditch 505:
Approximately 3,100 feet downstream of Route 124 | *13 | Jefferson County (Uninc. Areas).
Approximately 4,700 feet upstream of West Clubb Road | *19
Mayhaw Bayou:
Approximately 6,700 feet downstream of Timber Road | *11 | Jefferson County (Uninc. Areas).
Approximately 850 feet upstream of Interstate 10 | *22
Mayhaw Bayou Tributary:
At confluence with Mayhaw Bayou | *16 | Jefferson County (Uninc. Areas).
Approximately 2,400 feet upstream of Brush Island road | *19
Quinn Ditch:
Approximately 5,500 feet downstream of Tram Road | *22 | Jefferson County (Uninc. Areas).
Approximately 100 feet upstream of Tram Road | *23
Taylor Bayou:
Approximately 11,000 feet downstream of LaBelle Road | *10 | Jefferson County (Uninc. Areas).
Approximately 250 feet upstream of Jap Road | *11
Tributary of Ditch 505:
At confluence with Ditch 505 | *17 | Jefferson County (Uninc. Areas).
Approximately 2,000 feet upstream of West Clubb Road | *19
ADDRESSES
Jefferson County and Unincorporated Areas:
Maps are available for inspection at Jefferson County Courthouse, 1149 Pearl Street, 5th Floor, Beaumont, Texas.
City of Beaumont:
Maps are available for inspection at 801 Main Street, Beaumont, Texas.
Lubbock County and Incorporated Areas FEMA Docket No. (B-7418)
Blackwater Draw:
From just upstream of IH-27 | *3,182 | City of Lubbock.
To just downstream of Yucca Lane | *3,183
Playa System C1:
At confluence with Yellowhouse Draw | *3,180 | City of Lubbock.
Near intersection of Levelland Highway and Milwaukee Avenue (Playa 105) | *3,272
Playa System C2:
Near intersection of Erskin Street and Knoxville Avenue (Playa 53) | *3,221 | City of Lubbock.
Playa System C3:
At confluence with North Fork Double Mountain Fork of the Brazos River | *3,146 | City of Lubbock.
Near intersection of Clovis Road and Baylor Street (at Playa System C1) | *3,211
Playa System D1:
At confluence with North Fork Double Mountain Fork of the Brazos River | *3,128 | City of Lubbock.
Near intersection of 25th Street and Geneva Avenue (Tech Terrace Playa) | *3,212
Near intersection of Kewanee Avenue and 32nd Street (Playa 40) | *3,261
Playa System D2:
At Maxey Park (Playa 43) | *3,226 | City of Lubbock.
Near intersection of Levelland Highway and Utica Drive (Playa 45) | *3,242
Playa System D3:
At confluence with North Fork Double Mountain Fork of the Brazos River | *3,142 | City of Lubbock.
Near 26th Street and Globe Avenue (at Playa System D1) | *3,185
Playa System E1:
Just upstream of confluence with North Fork Double Mountain Fork of the Brazos River | *3,094 | Lubbock County (Uninc. Areas), City of Lubbock.
Near intersection of Milwaukee Avenue and County Road 6900 (Playa 39) | *3,269
Playa System E2:
Near intersection of Elgin Avenue and Loop 289 (at Playa System E1) | *3,223 | City of Lubbock.
Northwest of intersection of 66th Street and Elgin Avenue | *3,224
Playa System E3:
Near Brownfield Highway and Highway 62/83 split (at Playa System E1 upper) | *3,276 | City of Lubbock.
Near intersection of 59th Street and Upland Avenue (Playa 101) | *3,281
Playa System E4 (A, B, & C):
Just upstream of Route 327 | *3,267 | City of Lubbock.
Northwest of the intersection of 82nd Street and Iola Avenue | *3,283
Playa System E5 & E7:
Near intersection of Dowden Avenue and Broomfield Highway | *3,289 | Lubbock County (Uninc. Areas), Town of Wolfforth.
Near intersection of 82nd Avenue | *3,307
Playa System E1 Upper & E8:
Northwest of intersection of Frankford Avenue and Highway 82/62 (Playa 37) | *3,267 | Lubbock County (Uninc. Areas), City of Lubbock.
Southeast of intersection of 66th Street and Inler Avenue (Playa 138) | *3,302
Playa System E9:
Southwest of intersection of 66th Street and Quincy Avenue (at Playa System E48B) | *3,272 | City of Lubbock.
Near intersection of Homestead Avenue and 82nd Avenue (Playa 32) | *3,289
Playa System E12 &E13 (Western Area):
Southeast of intersection of 34th Street and Hartland Avenue | *3,317 | Lubbock County (Uninc. Areas).
Near intersection of Inler Avenue and 66th Street | *3,294
Playa System F:
Near intersection of 50th Street and Avenue A (Playa 16) | *3,182 | City of Lubbock.
Near intersection of IH-27 and Highway 289 | *3,184
Approximately 1 mile south of Highway 289 on IH-27 | *3,220
Playa System G1, G2, G3, & G4:
Near intersection of 98th Street and University Avenue (Playa 85) | *3,204 | City of Lubbock.
Near intersection of 73rd Street and Bangor Avenue (Playa 30) | *3,260
Playa System G5:
Near intersection of 98th Street and Milwaukee Avenue (Playa 94) | *3,261 | Lubbock Couty (Uninc. Areas), City of Lubbock.
Near intersection of 98th Street and Alcove Avenue (Playa 133) | *3,301
Playa Lake 13 & 15:
Near intersectionof Slaton Road and Martin L. King Boulevard | *3,166 | City of Lubbock.
Near intersection of Slaton Road and Martin L. King Bouelvard | *3,171
Playa Lake 89:
Near intersection of 93rd Street and Memphis Avenue | *3,219 | City of Lubbock.
Ransom Canyon Lake:
Near Lake Shore Drive | *2,957 | Lubbock County (Uninc. Areas), Village of Lake Ransom Canyon, Village of Buffalo Springs.
Slaton Playa System:
Near intersection of Division Street and New Mexico Street (Twin Lakes Playa) | *3,072 | City of Slaton.
Near intersection of Dawson Street and Fisher Street (Compress Lake Playa) | *3,081
Woodrow Playa System:
Near intersection of University Avenue and Woodrow Road | *3,194 | Lubbock County (Uninc. Areas).
Yellowhouse Draw:
At confluence with North Fork Double Mountain Fork of the Brazos River | *3,157 | City of Lubbock.
Just upstream of Atchinson, Topeka, and Santa Fe Railway | *3,173
Just upstream of University Avenue | *3,192
Approximately 5,500 feet upstream of Loop 289 North Service Road | *3,200
ADDRESSES
Lubbock County and Unincorporated Areas:
Maps are available for inspection at the Lubbock County Courthouse, 904 Broadway Street, Lubbock, Texas.
Village of Buffalo Springs:
Maps are available for inspection at City Hall, #2 Marina Point, Pony Express Drive, Buffalo Springs, Texas.
Village of Lake Ransom:
Maps are available for inspection at City Hall, 24 Lee Kitchens Drive, Ranson Canyon, Texas.
City of Lubbock:
Maps are available for inspection at City Hall, 1625 13th Street, Lubbock, Texas.
City of Slaton:
Maps are available for inspection at City Hall, 130 South 9th Street, Slaton, Texas.
Town of Wolfforth:
Maps are available for inspection at City Hall, 328 East Highway 62/82, Wolfforth, Texas.

Source of flooding and location | # Depth in feet above ground. * Elevation in feet (NGVD) | Communities affected
TEXAS
Travis County and Incorporated Areas FEMA Docket No. (B-7418)
Colorado River/Lake Travis:
Portions of Colorado River/Lake Travis from approximately 4 miles upstream to approximately 21 miles upstream of Mansfield Dam | * 716 | Travis County (Uninc. Areas), City of Jonestown, City of Lago Vista, and City of Lakeway Travis County (Uninc. Areas).
Cow Creek:
From confluence with Colorado River/Lake Travis to approximately 3 miles upstream | *716 |
Flat Creek:
From confluence with Colorado River/Lake to approximately 2,100 feet upstream | *716 | Travis County (Uninc. Areas).
ADDRESSES
Travis County (Unincorporated Areas):
Maps are available for inspection at 411 West 13th Street, 8th Floor, Permit Office, Austin, Texas.
City of Jonestown:
Maps are available for inspection at City Hall, 18649 FM 1431, Suite 4A, Jonestown, Texas.
City of Lago Vista:
Maps are available for inspection at City Hall, 5803 Thunderbird, Lago Vista, Texas.
City of Lakeway:
Maps are available for inspection at City Hall, 104 Cross Creek, Lakeway, Texas.
WASHINGTON
King County and Incorporated Areas FEMA Docket No. (B-7306)
Middle Fork Snoqualmie River:
At confluence with the North Fork Snoqualmie River | * 426 | King County, City of North Bend, City of Snoqualmie, City of Carnation.
Approximately 47.0 miles from confluence with the North Fork Snoqualmie River | * 472 |
At Southeast Mount S. Road | * 482 |
North Fork Snoqualmie River:
At confluence with the Snoqualmie River | * 426 | King County, City of North Bend, City of Snoqualmie, City of Carnation.
Approximately .4 miles upstream of 428th Avenue SE | * 426 |
Approximately 2.5 miles upstream from the confluence with the Snoqualmie River | * 482 |
Middle Fork Overflow 1:
At confluence with Middle Fork Snoqualmie River | * 430 | King County, City of North Bend, City of Snoqualmie, City of Carnation.
At divergence from Middle Fork Snoqualmie River | * 449 |
Middle Fork Overflow 2:
At confluence with South Fork Snoqualmie River | * 431 | King County, City of North Bend, City of Snoqualmie, City of Carnation.
At divergence from Overflow 1 | * 442
Middle Fork Overflow 3:
At confluence with Overflow 4 | * 440 | King County, City of North Bend, City of Snoqualmie, City of Carnation.
At divergence from Middle Fork Snoqualmie River | * 456 |
Middle Fork Overflow 4:
At confluence with South Fork Snoqualmie River | * 436 | King County, City of North Bend, City of Snoqualmie, City of Carnation.
At divergence from Middle Fork Snoqualmie River | * 455 |
South Fork Snoqualmie River:
At confluence with South Fork Snoqualmie River | * 426 | King County, City of North Bend, City of Snoqualmie, City of Carnation.
Approximately 6,500 feet upstream of confluence with the Snoqualmie River | ¹ * 426/426/426 |
Approximately 2,375 feet upstream from the Snoqualmie Valley Trail | ¹ * 542/543/543 |
Approximately 3,875 feet upstream from 468th Avenue SE | * 613 |
Tolt River:
At its confluence with the Snoqualmie River | * 72 | King County, City of North Bend, City of Snoqualmie, City of Carnation.
Approximately 300 feet downstream from the Snoqualmie River Trail | ¹ * 89/90/90 |
Approximately 6,300 feet upstream of the Snoqualmie River Trail | ¹ * 124/124/124 |
Approximately 26,100 feet (5 miles) upstream of the Snoqualmie River Trail | * 258 |
Approximately 211 feet downstream of Meadowbrook Avenue | * 423 |
Approximately 1,214 feet upstream of the Burlington Northern Railroad | * 425 |
At confluence of North Fork Snoqualmie River and South Fork Snoqualmie River | * 426 |
¹ With Levees/Without Right Levee/Without Left Levee
ADDRESSES
King County:
Maps are available for inspection at the Building Services Division, Department of Development and Environmental Sciences, 900 Oaksdale Avenue SW, Renton, Washington.
City of Snoqualmie:
Maps are available for inspection at the City Planning Directors Office, 109 Riverton Street, P.O. Box 987, Snoqualmie, Washington.
City of Carnation:
Maps are available for inspection at the Planning Department, 4621 Tolt Avenue, Carnation, Washington.
City of North Bend:
Maps are available for inspection at the Community Development Department, 211 Main Avenue North, North Bend, Washington.
Pend Oreille County and Incorporated Areas FEMA Docket No. (B-7418)
Pend Oreille River:
Approximately 19,600 feet downstream of Sullivan Lake Road | * 2,041 | Pend Oreille County (Uninc. Areas), Towns of Metaline, Metaline Falls, Ione, Newport and Cusick. | Just downstream of Usk Bridge | * 2,054 |
Approximately 4,000 feet downstream of U.S. Route 2, Near Rat Island | * 2,056 |
ADDRESSES
Unincorporated Areas of Pend Oreille County:
Maps are available for inspection at the Planning Department, 625 West Fourth Street, Newport, Washington.
Town of Cusick:
Maps are available for inspection at the Town Hall, 105 First Street, Cusick, Washington.
Town of Ione:
Maps are available for inspection at the Town Hall, 207 Houhton Street, Ione, Washington.
Town of Metaline:
Maps are available for inspection at the Town Hall, 101 Housing Drive, Metaline, Washington.
Town of Metaline Falls:
Maps are available for inspection at the Town Hall, East 201 5th Avenue, Metaline Falls, Washington.
City of Newport:
Maps are available for inspection at the City Hall, South 200 Washington Avenue, Newport, Washington.

(Catalog of Federal Domestic Assistance No. 83.100, “Flood Insurance.”)
Dated: April 5, 2002.
Robert F. Shea,
Acting Administrator, Federal Insurance and Mitigation Administration.

[FR Doc. 02-10221 Filed 4-24-02; 8:45 am]

BILLING CODE 6718-04-P